DEPARTMENT OF HEALTH AND HUMAN SERVICES

National Institutes of Health

Center for Scientific Review; Amended Notice of Meeting

Notice is hereby given of a change in the meeting of the Center for Scientific Review Special Emphasis Panel, June 24, 2008, 1 p.m. to June 24, 2008, 3 p.m., National Institutes of Health, 6701 Rockledge Drive, Bethesda, MD, 20892 which was published in the Federal Register on May 16, 2008, 73 FR 28489-28490.

The meeting will be held June 25, 2008, 3 p.m. to 5 p.m. The meeting location remains the same. The meeting is closed to the public.

Dated: May 20, 2008.
Jennifer Spaeth,
Director, Office of Federal Advisory Committee Policy.

[FR Doc. E8-11795 Filed 5-28-08; 8:45 am]

BILLING CODE 4140-01-M